DEPARTMENT OF TRANSPORTATION

Federal Aviation Administration

14 CFR Part 39

[Docket No. FAA-2016-0457; Directorate Identifier 2015-NM-084-AD; Amendment 39-18751; AD 2016-25-25]

RIN 2120-AA64

Airworthiness Directives; BAE Systems (Operations) Limited Airplanes

AGENCY: Federal Aviation Administration (FAA), DOT.

ACTION: Final rule; correction.

SUMMARY: The FAA is correcting an airworthiness directive (AD) that published in the Federal Register. That AD applies to all BAE Systems (Operations) Limited Model 4101 airplanes. As published, the Product Identification line of the regulatory text contains an error. This document corrects that error. In all other respects, the original document remains the same.

DATES: This correction is effective March 22, 2017.

The Director of the Federal Register approved the incorporation by reference of certain publications listed in this AD as of February 7, 2017 (82 FR 7, January 3, 2017).

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Todd Thompson, Aerospace Engineer, International Branch, ANM-116, Transport Airplane Directorate, FAA, 1601 Lind Avenue SW., Renton, WA 98057-3356; telephone 425-227-1175; fax 425-227-1149.

SUPPLEMENTARY INFORMATION: Airworthiness Directive (AD) 2016-25-25, Amendment 39-18751 (82 FR 7, January 3, 2017) (“AD 2016-25-25”), currently requires repetitive detailed inspections for cracks, corrosion, and other defects of the rear face of the wing rear spar, and repair if necessary, for all BAE Systems (Operations) Limited Model 4101 airplanes.

As published, the Product Identification line of the regulatory text contains an error. The Product Identification line incorrectly identifies Bombardier as the product manufacturer, but should have identified BAE Systems (Operations) Limited. All other references to the product manufacturer appear correctly as BAE Systems (Operations) Limited throughout the preamble and regulatory text of AD 2016-25-25.

No other part of the preamble or regulatory information has been changed; therefore, only the changed portion of the final rule is being published in the Federal Register.

The effective date of this AD remains February 7, 2017.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by removing Amendment 39-17079 (77 FR 36127, June 18, 2012), and adding the following new airworthiness directive (AD):

2016-25-25 BAE Systems (Operations) Limited: Amendment 39-18751; Docket No. FAA-2016-0457; Directorate Identifier 2015-NM-084-AD.

(a) Effective Date

This airworthiness directive (AD) is effective February 7, 2017.

(b) Affected ADs

This AD replaces AD 2012-11-15, Amendment 39-17079 (77 FR 36127, June 18, 2012) (“AD 2012-11-15”).

(c) Applicability

This AD applies to BAE Systems (Operations) Limited Model 4101 airplanes, certificated in any category, all models and all serial numbers.

(d) Subject

Air Transport Association (ATA) of America Code 57, Wings.

(e) Reason

This AD was prompted by new reports of cracking found in the wing rear spar and technical analysis results, which confirmed that the crack initiation and propagation are due to fatigue, with no indication of any other crack initiation mechanism (e.g., stress corrosion). We are issuing this AD to detect and correct cracking in the wing rear spar, which could propagate to a critical length, possibly affecting the structural integrity of the area and resulting in a fuel tank rupture, with consequent damage to the airplane and possible injury to its occupants.

(f) Compliance

Comply with this AD within the compliance times specified, unless already done.

(g) Repetitive Inspections and Repair

Within 30 days after February 7, 2017 (the effective date of this AD), or within 1,600 flight cycles since the most recent detailed inspection was done as specified in BAE Systems Alert Service Bulletin J41-A57-029, whichever occurs later: Do a detailed inspection for cracks, corrosion, and other defects (defects include scratches, dents, holes, damage to fastener holes, or damage to surface protection and finish) of the rear face of the wing rear spars, in accordance with the Accomplishment Instructions of BAE Systems Alert Service Bulletin J41-A57-029, Revision 3, dated April 8, 2014. Repeat the inspection thereafter at intervals not to exceed 1,600 flight cycles.

(1) If any cracking, corrosion, or other defect is found within the criteria defined in Chapter 57, Wings, of the Jetstream Series 4100 Structural Repair Manual (SRM), Volume 1, Publication Ref. No. (Transmittal No.) SA 4-4100/SRM/400, Revision 32, dated October 15, 2014 (“Chapter 57 of the SRM”): Before further flight, repair the affected area, in accordance with the repair instructions of Chapter 57 of the SRM.

(2) If any cracking, corrosion, or other defect is found exceeding the criteria defined in Chapter 57 of the SRM: Before further flight, repair using a method approved by the Manager, International Branch, ANM-116, Transport Airplane Directorate, FAA; or the European Aviation Safety Agency (EASA); or BAE Systems (Operations) Limited's EASA Design Organization Approval (DOA).

(h) Repair Does Not Constitute Terminating Action Except for Certain Repairs

Accomplishment of a repair, as required by paragraphs (g)(1) and (g)(2) of this AD, does not constitute terminating action for the repetitive inspections required by paragraph (g) of this AD, unless the approved repair required by paragraph (g)(2) of this AD states otherwise (e.g., the approved repair states the repair terminates the inspections for the repaired area only).

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone 425-227-1175; fax 425-227-1149.

Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of February 7, 2017 (the effective date of this AD), for any requirement in this AD to obtain corrective actions from a manufacturer, the action must be accomplished using a method approved by the Manager, International Branch, ANM-116, Transport Airplane Directorate, FAA; or the EASA; or BAE Systems (Operations) Limited's EASA DOA. If approved by the DOA, the approval must include the DOA-authorized signature.

(j) Related Information

Refer to Mandatory Continuing Airworthiness Information (MCAI) EASA Airworthiness Directive 2015-0100, dated June 3, 2015, for related information. This MCAI may be found in the AD docket on the Internet at http://www.regulations.gov by searching for and locating Docket No. FAA-2016-0457.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) BAE Systems Alert Service Bulletin J41-A57-029, Revision 3, dated April 8, 2014.

(ii) Chapter 57, Wings, of the BAE Systems (Operations) Limited Jetstream Series 4100 Structural Repair Manual, Volume 1, Publication Ref. No. (Transmittal No.) SA 4-4100/SRM/400, Revision 32, dated October 15, 2014.

(3) For service information identified in this AD, contact BAE Systems (Operations) Limited, Customer Information Department, Prestwick International Airport, Ayrshire, KA9 2RW, Scotland, United Kingdom; telephone +44 1292 675207; fax +44 1292 675704; email RApublications@baesystems.com; Internet http://www.baesystems.com/Businesses/RegionalAircraft/index.htm.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 23, 2017.
Dionne Palermo,
Acting Manager, Transport Airplane Directorate, Aircraft Certification Service.

[FR Doc. 2017-05163 Filed 3-21-17; 8:45 am]

BILLING CODE 4910-13-P